SECURITIES AND EXCHANGE COMMISSION

[File No. 500-1]

In the Matter of the Estate Vault, Inc.; Order of Suspension of Trading

April 19, 2013.

It appears to the Securities and Exchange Commission that there is a lack of current and accurate information concerning the securities of The Estate Vault, Inc. (“Estate Vault”) because it has not filed a periodic report since it filed its Form 10-Q for the period ending February 28, 2009, filed on December 24, 2009.

The Commission is of the opinion that the public interest and the protection of investors require a suspension of trading in the securities of Estate Vault. Therefore, it is ordered, pursuant to Section 12(k) of the Securities Exchange Act of 1934, that trading in the securities of Estate Vault is suspended for the period from 9:30 a.m. EDT on April 19, 2013, through 11:59 p.m. EDT on May 2, 2013.

By the Commission.
Elizabeth M. Murphy,
Secretary.

[FR Doc. 2013-09638 Filed 4-19-13; 4:15 pm]

BILLING CODE 8011-01-P